DEPARTMENT OF HOMELAND SECURITY

6 CFR Part 27

8 CFR Parts 270, 274a, and 280

U.S. Customs and Border Protection

19 CFR Part 4

Coast Guard

33 CFR Part 27

Transportation Security Administration

49 CFR Part 1503

RIN 1601-AB05

Civil Monetary Penalty Adjustments for Inflation

AGENCY: Department of Homeland Security.

ACTION: Final rule.

SUMMARY: In this final rule, the Department of Homeland Security (DHS) makes the 2022 annual inflation adjustment to its civil monetary penalties. On November 2, 2015, the President signed into law The Federal Civil Penalties Inflation Adjustment Act Improvements Act of 2015 (the 2015 Act). Pursuant to the 2015 Act, all agencies must adjust their civil monetary penalties annually and publish the adjustment in the Federal Register. Accordingly, this final rule adjusts the Department's civil monetary penalties for 2021 pursuant to the 2015 Act and Executive Office of the President (EOP) Office of Management and Budget (OMB) guidance. The new penalties will be effective for penalties assessed after January 11, 2022 whose associated violations occurred after November 2, 2015.

DATES: This rule is effective on January 11, 2022.

FOR FURTHER INFORMATION CONTACT: Hillary Hunnings, 202-282-9043, hillary.hunnings@hq.dhs.gov.

SUPPLEMENTARY INFORMATION:

Table of Contents

I. Statutory and Regulatory Background

II. Overview of Final Rule

III. Adjustments by Component

A. Cybersecurity and Infrastructure Security Agency

B. U.S. Customs and Border Protection

C. U.S. Immigration and Customs Enforcement

D. U.S. Coast Guard

E. Transportation Security Administration

IV. Administrative Procedure Act

V. Regulatory Analyses

A. Executive Orders 12866 and 13563

B. Regulatory Flexibility Act

C. Unfunded Mandates Reform Act

D. Paperwork Reduction Act

VI. Signing Authority

I. Statutory and Regulatory Background

On November 2, 2015, the President signed into law the Federal Civil Penalties Inflation Adjustment Act Improvements Act of 2015 (Pub. L. 114-74 section 701 (Nov. 2, 2015)) (2015 Act).¹ The 2015 Act amended the Federal Civil Penalties Inflation Adjustment Act of 1990 (28 U.S.C. 2461 note) to improve the effectiveness of civil monetary penalties and to maintain their deterrent effect. The 2015 Act required agencies to: (1) Adjust the level of civil monetary penalties with an initial “catch-up” adjustment through issuance of an interim final rule (IFR) and (2) make subsequent annual adjustments for inflation. Through the “catch-up” adjustment, agencies were required to adjust the maximum amounts of civil monetary penalties to more accurately reflect inflation rates.

¹ The 2015 Act was part of the Bipartisan Budget Act of 2015, Public Law 114-74 (Nov. 2, 2015).

For the subsequent annual adjustments, the 2015 Act requires agencies to increase the penalty amounts by a cost-of-living adjustment. The 2015 Act directs OMB to provide guidance to agencies each year to assist agencies in making the annual adjustments. The 2015 Act requires agencies to make the annual adjustments no later than January 15 of each year and to publish the adjustments in the Federal Register.

Pursuant to the 2015 Act, DHS undertook a review of the civil penalties that DHS and its components administer.² On July 1, 2016, DHS published an IFR adjusting the maximum civil monetary penalties with an initial “catch-up” adjustment, as required by the 2015 Act.³ DHS calculated the adjusted penalties based upon nondiscretionary provisions in the 2015 Act and upon guidance that OMB issued to agencies on February 24, 2016.⁴ The adjusted penalties were effective for civil penalties assessed after August 1, 2016 (the effective date of the IFR), whose associated violations occurred after November 2, 2015 (the date of enactment of the 2015 Act). On January 27, 2017, DHS published a final rule making the annual adjustment for 2017.⁵ On April 2, 2018, DHS made the 2018 annual inflation adjustment.⁶ On April 5, 2019, DHS made the 2019 annual inflation adjustment.⁷ On June 17, 2020, DHS made the 2020 annual inflation adjustment.⁸ On October 18, 2021, DHS made the 2021 annual inflation adjustment.⁹

² The 2015 Act applies to all agency civil penalties except for any penalty (including any addition to tax and additional amount) under the Internal Revenue Code of 1986 (26 U.S.C. 1 et seq.) and the Tariff Act of 1930 (19 U.S.C. 1202 et seq.). See sec. 4(a)(1) of the 2015 Act. In the case of DHS, several civil penalties that are assessed by U.S. Customs and Border Protection (CBP) and the U.S. Coast Guard (USCG) fall under the Tariff Act of 1930, and therefore DHS did not adjust those civil penalties in this rulemaking.

³ See 81 FR 42987.

⁴ Office of Mgmt. & Budget, Exec. Office of The President, M-16-06, Implementation of the Federal Civil Penalties Inflation Adjustment Act Improvements Act of 2015, Table A: 2016 Civil Monetary Penalty Catch-Up Adjustment Multiplier by Calendar Year, (Feb. 24, 2016) (https://www.whitehouse.gov/sites/whitehouse.gov/files/omb/memoranda/2016/m-16-06.pdf).

⁵ See 82 FR 8571.

⁶ See 83 FR 13826.

⁷ See 84 FR 13499.

⁸ See 85 FR 36469.

⁹ See 86 FR 57532.

II. Overview of the Final Rule

This final rule makes the 2022 annual inflation adjustments to civil monetary penalties pursuant to the 2015 Act and pursuant to guidance OMB issued to agencies on December 15, 2021.¹⁰ The penalty amounts in this final rule will be effective for penalties assessed after January 11, 2022 where the associated violation occurred after November 2, 2015. Consistent with OMB guidance, the 2015 Act does not change previously assessed penalties that the agency is actively collecting or has collected.

¹⁰ Office of Mgmt. and Budget, Exec. Office of the President, M-22-07, Implementation of Penalty Inflation Adjustments for 2022, Pursuant to the Federal Civil Penalties Inflation Adjustment Act Improvements Act of 2015 (Dec. 15, 2021) (https://www.whitehouse.gov/wp-content/uploads/2021/12/M-22-07.pdf).

¹¹ Section 550 has since been superseded by the Protecting and Securing Chemical Facilities from Terrorist Attacks Act of 2014 (Pub. L. 113-254). The new legislation codified the statutory authority for the CFATS program within Title XXI of the Homeland Security Act of 2002, as amended. See 6 U.S.C. 621 et seq. Public Law 113-254 authorized the CFATS program from January 18, 2015, to January 17, 2019. Public Law 116-150 extends the CFATS program authorization to July 27, 2023.

The adjusted penalty amounts will apply to penalties assessed after the effective date of this final rule. We discuss civil penalties by DHS component in Section III below. For each component identified in Section III, below, we briefly describe the relevant civil penalty (or penalties), and we provide a table showing the increase in the penalties for 2022. In the table for each component, we show (1) the penalty name, (2) the penalty statutory and or regulatory citation, (3) the penalty amount as adjusted in the 2021 final rule, (4) the cost-of-living adjustment multiplier for 2022 that OMB provided in its December 15, 2021, guidance, and (5) the new 2022 adjusted penalty. The 2015 Act instructs agencies to round penalties to the nearest $1. For a more complete discussion of the method used for calculating the initial “catch-up” inflation adjustments and a component-by-component breakdown to the nature of the civil penalties and relevant legal authorities, please see the IFR preamble at 81 FR 42987-43000.

III. Adjustments by Component

In the following sections, we briefly describe the civil penalties that DHS and its components, the Cybersecurity and Infrastructure Security Agency (CISA), the U.S. Customs and Border Protection (CBP), the U.S. Immigration and Customs Enforcement (ICE), the U.S. Coast Guard (USCG), and the Transportation Security Administration (TSA), assess. Other components not mentioned do not impose any civil monetary penalties. We include tables at the end of each section, which list the individual adjustments for each penalty.

A. Cybersecurity and Infrastructure Security Agency

The Cybersecurity and Infrastructure Security Agency (CISA) administers only one civil penalty that the 2015 Act affects. That penalty assesses fines for violations of the Chemical Facility Anti-Terrorism Standards (CFATS). CFATS is a program that regulates the security of chemical facilities that, in the discretion of the Secretary, present high levels of security risk. DHS established the CFATS program in 2007 pursuant to section 550 of the Department of Homeland Security Appropriations Act of 2007 (Pub. L. 109-295).¹¹ The CFATS regulation is located in part 27 of title 6 of the Code of Federal Regulations (CFR). Below is a table showing the 2022 adjustment for the CFATS penalty that CISA administers.

Table 1—CFATS Civil Penalty Adjustment
Penalty name | Citation | Penalty amount as adjusted in the 2021 FR | Multiplier * | New penalty as adjusted by this final rule
Penalty for non-compliance with CFATS regulations | 6 U.S.C. 624(b)(1); 6 CFR 27.300(b)(3) | $35,905 per day | 1.06222 | $38,139 per day.
* Office of Mgmt. and Budget, Exec. Office of the President, M-22-07, Implementation of Penalty Inflation Adjustments for 2022, Pursuant to the Federal Civil Penalties Inflation Adjustment Act Improvements Act of 2015 (Dec. 15, 2021) (https://www.whitehouse.gov/wp-content/uploads/2021/12/M-22-07.pdf).

B. U.S. Customs and Border Protection

The U.S. Customs and Border Protection (CBP) assesses civil monetary penalties under various titles of the United States Code (U.S.C.) and the CFR. These include penalties for certain violations of title 8 of the CFR regarding the Immigration and Nationality Act of 1952 (Pub. L. 82-414, as amended) (INA). The INA contains provisions that impose penalties on persons, including carriers and aliens, who violate specified provisions of the INA. The relevant penalty provisions appear in numerous sections of the INA; however, CBP has enumerated these penalties in regulation in one location—8 CFR 280.53. For a complete list of the INA sections for which penalties are assessed, in addition to a brief description of each violation, see the 2016 IFR preamble at 81 FR 42989-42990. For a complete list and brief description of the non-INA civil monetary penalties assessed by CBP subject to adjustment and a discussion of the history of the DHS and CBP adjustments to the non-INA penalties, see the 2019 annual inflation adjustment final rule preamble at 84 FR 13499, 13500 (April 5, 2019).

Below is a table showing the 2022 adjustment for the penalties that CBP administers.

Table 2—U.S. Customs and Border Protection Civil Penalties Adjustments
Penalty name | Citation | Penalty amount as adjusted in the 2021 FR | Multiplier * | New penalty as adjusted by this final rule
Penalties for non-compliance with arrival and departure manifest requirements for passengers, crewmembers, or occupants transported on commercial vessels or aircraft arriving to or departing from the United States | 8 U.S.C. 1221(g); 8 CFR 280.53(b)(1) (INA section 231(g)) | $1,436 | 1.06222 | $1,525.
Penalties for non-compliance with landing requirements at designated ports of entry for aircraft transporting aliens | 8 U.S.C. 1224; 8 CFR 280.53(b)(2) (INA section 234) | $3,901 | 1.06222 | $4,144.
Penalties for failure to depart voluntarily | 8 U.S.C. 1229c(d); 8 CFR 280.53(b)(3) (INA section 240B(d)) | $1,644-$8,224 | 1.06222 | $1,746-$8,736.
Penalties for violations of removal orders relating to aliens transported on vessels or aircraft under section 241(d) of the INA, or for costs associated with removal under section 241(e) of the INA | 8 U.S.C. 1253(c)(1)(A); 8 CFR 280.53(b)(4) (INA section 243(c)(1)(A)) | $3,289 | 1.06222 | $3,494.
Penalties for failure to remove alien stowaways under section 241(d)(2) of the INA | 8 U.S.C. 1253(c)(1)(B); 8 CFR 280.53(b)(5) (INA section 243(c)(1)(B)) | $8,224 | 1.06222 | $8,736.
Penalties for failure to report an illegal landing or desertion of alien crewmen, and for each alien not reported on arrival or departure manifest or lists required in accordance with section 251 of the INA | 8 U.S.C. 1281(d); 8 CFR 280.53(b)(6) (INA section 251(d)) | $390 for each alien | 1.06222 | $414 for each alien.
Penalties for use of alien crewmen for longshore work in violation of section 251(d) of the INA | 8 U.S.C. 1281(d); 8 CFR 280.53(b)(6) (INA section 251(d)) | $9,753 | 1.06222 | $10,360.
Penalties for failure to control, detain, or remove alien crewmen | 8 U.S.C. 1284(a); 8 CFR 280.53(b)(7) (INA section 254(a)) | $975-$5,851 | 1.06222 | $1,036-$6,215.
Penalties for employment on passenger vessels of aliens afflicted with certain disabilities | 8 U.S.C. 1285; 8 CFR 280.53(b)(8) (INA section 255) | $1,951 | 1.06222 | $2,072.
Penalties for discharge of alien crewmen | 8 U.S.C. 1286; 8 CFR 280.53(b)(9) (INA section 256) | $2,925-$5,851 | 1.06222 | $3,107-$6,215.
Penalties for bringing into the United States alien crewmen with intent to evade immigration laws | 8 U.S.C. 1287; 8 CFR 280.53(b)(10) (INA section 257) | $19,505 | 1.06222 | $20,719.
Penalties for failure to prevent the unauthorized landing of aliens | 8 U.S.C. 1321(a); 8 CFR 280.53(b)(11) (INA section 271(a)) | $5,851 | 1.06222 | $6,215.
Penalties for bringing to the United States aliens subject to denial of admission on a health-related ground | 8 U.S.C. 1322(a); 8 CFR 280.53(b)(12) (INA section 272(a)) | $5,851 | 1.06222 | $6,215.
Penalties for bringing to the United States aliens without required documentation | 8 U.S.C. 1323(b); 8 CFR 280.53(b)(13) (INA section 273(b)) | $5,851 | 1.06222 | $6,215.
Penalties for failure to depart | 8 U.S.C. 1324d; 8 CFR 280.53(b)(14) (INA section 274D) | $823 | 1.06222 | $874.
Penalties for improper entry | 8 U.S.C. 1325(b); 8 CFR 280.53(b)(15) (INA section 275(b)) | $82-$412 | 1.06222 | $87-$438.
Penalty for dealing in or using empty stamped imported liquor containers | 19 U.S.C. 469 | $546 | 1.06222 | ** $580.
Penalty for employing a vessel in a trade without a required Certificate of Documentation | 19 U.S.C. 1706a; 19 CFR 4.80(i) | $1,368 | 1.06222 | $1,453.
Penalty for transporting passengers coastwise for hire by certain vessels (known as Bowaters vessels) that do not meet specified conditions | 46 U.S.C. 12118(f)(3) | $546 | 1.06222 | ** $580.
Penalty for transporting passengers between coastwise points in the United States by a non-coastwise qualified vessel | 46 U.S.C. 55103(b); 19 CFR 4.80(b)(2) | $822 | 1.06222 | $873.
Penalty for towing a vessel between coastwise points in the United States by a non-coastwise qualified vessel | 46 U.S.C. 55111(c); 19 CFR 4.92 | $957-$3,011, plus $164 per ton | 1.06222 | $1,017-$3,198 plus $174 per ton.
* Office of Mgmt. and Budget, Exec. Office of the President, M-22-07, Implementation of Penalty Inflation Adjustments for 2022, Pursuant to the Federal Civil Penalties Inflation Adjustment Act Improvements Act of 2015 (Dec. 15, 2021) (https://www.whitehouse.gov/wp-content/uploads/2021/12/M-22-07.pdf).
** No applicable conforming edit to regulatory text.

C. U.S. Immigration and Customs Enforcement

U.S. Immigration and Customs Enforcement (ICE) assesses civil monetary penalties for certain employment-related violations arising from the INA. ICE's civil penalties are located in title 8 of the CFR.

There are three different sections in the INA that impose civil monetary penalties for violations of the laws that relate to employment actions: Sections 274A, 274B, and 274C. ICE has primary enforcement responsibilities for two of these civil penalty provisions (sections 274A and 274C), and the Department of Justice (DOJ) has enforcement responsibilities for one of these civil penalty provisions (section 274B). The INA, in sections 274A and 274C, provides for imposition of civil penalties for various specified unlawful acts pertaining to the employment eligibility verification process (Form I-9, Employment Eligibility Verification), the employment of unauthorized aliens, and document fraud.

Because both DHS and DOJ implement the three employment-related penalty sections in the INA, both Departments' implementing regulations reflect the civil penalty amounts. For a complete description of the civil money penalties assessed and a discussion of DHS's and DOJ's efforts to update the penalties in years past, see the IFR preamble at 81 FR 42991. Below is a table showing the 2022 adjustment for the penalties that ICE administers.¹²

¹² Table 3 also includes two civil penalties that are also listed as penalties administered by CBP. These are penalties for failure to depart voluntarily, INA section 240B(d), and failure to depart after a final order of removal, INA section 274D. Both CBP and ICE may administer these penalties, but as ICE is the DHS component primarily responsible for assessing and collecting them, they are also listed among the penalties ICE administers.

Table 3—U.S. Immigration and Customs Enforcement Civil Penalties Adjustments
Penalty name | Citation | Penalty amount as adjusted in the 2021 FR | Multiplier * | New penalty as adjusted by this final rule
Civil penalties for failure to depart voluntarily, INA section 240B(d) | 8 U.S.C. 1229c(d); 8 CFR 280.53(b)(3) | $1,644-$8,224 | 1.06222 | $1,746-$8,736.
Civil penalties for violation of INA sections 274C(a)(1)-(a)(4), penalty for first offense | 8 CFR 270.3(b)(1)(ii)(A) | $487-$3,901 | 1.06222 | $517-$4,144.
Civil penalties for violation of INA sections 274C(a)(5)-(a)(6), penalty for first offense | 8 CFR 270.3(b)(1)(ii)(B) | $412-$3,289 | 1.06222 | $438-$3,494.
Civil penalties for violation of INA sections 274C(a)(1)-(a)(4), penalty for subsequent offenses | 8 CFR 270.3(b)(1)(ii)(C) | $3,901-$9,753 | 1.06222 | $4,144-$10,360.
Civil penalties for violation of INA sections 274C(a)(5)-(a)(6), penalty for subsequent offenses | 8 CFR 270.3(b)(1)(ii)(D) | $3,289-$8,224 | 1.06222 | $3,494-$8,736.
Violation/prohibition of indemnity bonds | 8 CFR 274a.8(b) | $2,360 | 1.06222 | $2,507.
Civil penalties for knowingly hiring, recruiting, referral, or retention of unauthorized aliens—Penalty for first offense (per unauthorized alien) | 8 CFR 274a.10(b)(1)(ii)(A) | $590-$4,722 | 1.06222 | $627-$5,016.
Penalty for second offense (per unauthorized alien) | 8 CFR 274a.10(b)(1)(ii)(B) | $4,722-$11,803 | 1.06222 | $5,016-$12,537.
Penalty for third or subsequent offense (per unauthorized alien) | 8 CFR 274a.10(b)(1)(ii)(C) | $7,082-$23,607 | 1.06222 | $7,523-$25,076.
Civil penalties for I-9 paperwork violations | 8 CFR 274a.10(b)(2) | $237-$2,360 | 1.06222 | $252-$2,507.
Civil penalties for failure to depart, INA section 274D | 8 U.S.C. 1324d; 8 CFR 280.53(b)(14) | $823 | 1.06222 | $874.
* Office of Mgmt. and Budget, Exec. Office of the President, M-22-07, Implementation of Penalty Inflation Adjustments for 2022, Pursuant to the Federal Civil Penalties Inflation Adjustment Act Improvements Act of 2015 (Dec. 15, 2021) (https://www.whitehouse.gov/wp-content/uploads/2021/12/M-22-07.pdf).

D. U.S. Coast Guard

The Coast Guard is authorized to assess close to 150 penalties involving maritime safety and security and environmental stewardship that are critical to the continued success of Coast Guard missions. Various statutes in titles 14, 16, 19, 33, 42, 46, and 49 of the U.S.C. authorize these penalties. Titles 33 and 46 authorize the vast majority of these penalties as these statutes deal with navigation, navigable waters, and shipping. For a complete discussion of the civil monetary penalties assessed by the Coast Guard, see the 2016 IFR preamble at 81 FR 42992.

The Coast Guard has identified the penalties it administers, adjusted those penalties for inflation, and is listing those new penalties in a table located in the CFR—specifically, Table 1 in 33 CFR 27.3. Table 1 in 33 CFR 27.3 identifies the statutes that provide the Coast Guard with civil monetary penalty authority and sets out the inflation-adjusted maximum penalty that the Coast Guard may impose pursuant to each statutory provision. Table 1 in 33 CFR 27.3 provides the current maximum penalty for violations that occurred after November 2, 2015.

The applicable civil penalty amounts for violations occurring on or before November 2, 2015, are set forth in previously published regulations amending 33 CFR part 27. To find the applicable penalty amount for a violation that occurred on or before November 2, 2015, look to the prior versions of the CFR that pertain to the date on which the violation occurred.

Table 4 below shows the 2022 adjustment for the penalties that the Coast Guard administers.

Table 4—U.S. Coast Guard Civil Penalties Adjustments
Penalty name | Citation | Penalty amount as adjusted in the 2021 FR | Multiplier * | New penalty as adjusted by this final rule
Saving Life and Property | 14 U.S.C. 521(c) | $10,967 | 1.06222 | $11,649
Saving Life and Property; Intentional Interference with Broadcast | 14 U.S.C. 521(e) | 1,125 | 1.06222 | 1,195
Confidentiality of Medical Quality Assurance Records (first offense) | 14 U.S.C. 936(i); 33 CFR 27.3 | 5,508 | 1.06222 | 5,851
Confidentiality of Medical Quality Assurance Records (subsequent offenses) | 14 U.S.C. 936(i); 33 CFR 27.3 | 36,726 | 1.06222 | 39,011
Obstruction of Revenue Officers by Masters of Vessels | 19 U.S.C. 70; 33 CFR 27.3 | 8,212 | 1.06222 | 8,723
Obstruction of Revenue Officers by Masters of Vessels-Minimum Penalty | 19 U.S.C. 70; 33 CFR 27.3 | 1,916 | 1.06222 | 2,035
Failure to Stop Vessel When Directed; Master, Owner, Operator or Person in Charge | 19 U.S.C. 1581(d) | ** 5,000 | N/A | ** 5,000
Failure to Stop Vessel When Directed; Master, Owner, Operator or Person in Charge-Minimum Penalty | 19 U.S.C. 1581(d) | ** 1,000 | N/A | ** 1,000
Anchorage Ground/Harbor Regulations General | 33 U.S.C. 471; 33 CFR 27.3 | 11,906 | 1.06222 | 12,647
Anchorage Ground/Harbor Regulations St. Mary's river | 33 U.S.C. 474; 33 CFR 27.3 | 822 | 1.06222 | 873
Bridges/Failure to Comply with Regulations | 33 U.S.C. 495(b); 33 CFR 27.3 | 30,058 | 1.06222 | 31,928
Bridges/Drawbridges | 33 U.S.C. 499(c); 33 CFR 27.3 | 30,058 | 1.06222 | 31,928
Bridges/Failure to Alter Bridge Obstructing Navigation | 33 U.S.C. 502(c); 33 CFR 27.3 | 30,058 | 1.06222 | 31,928
Bridges/Maintenance and Operation | 33 U.S.C. 533(b); 33 CFR 27.3 | 30,058 | 1.06222 | 31,928
Bridge to Bridge Communication; Master, Person in Charge or Pilot | 33 U.S.C. 1208(a); 33 CFR 27.3 | 2,190 | 1.06222 | 2,326
Bridge to Bridge Communication; Vessel | 33 U.S.C. 1208(b); 33 CFR 27.3 | 2,190 | 1.06222 | 2,326
Oil/Hazardous Substances: Discharges (Class I per violation) | 33 U.S.C. 1321(b)(6)(B)(i); 33 CFR 27.3 | 19,505 | 1.06222 | 20,719
Oil/Hazardous Substances: Discharges (Class I total under paragraph) | 33 U.S.C. 1321(b)(6)(B)(i); 33 CFR 27.3 | 48,762 | 1.06222 | 51,796
Oil/Hazardous Substances: Discharges (Class II per day of violation) | 33 U.S.C. 1321(b)(6)(B)(ii); 33 CFR 27.3 | 19,505 | 1.06222 | 20,719
Oil/Hazardous Substances: Discharges (Class II total under paragraph) | 33 U.S.C. 1321(b)(6)(B)(ii); 33 CFR 27.3 | 243,808 | 1.06222 | 258,978
Oil/Hazardous Substances: Discharges (per day of violation) Judicial Assessment | 33 U.S.C. 1321(b)(7)(A); 33 CFR 27.3 | 48,762 | 1.06222 | 51,796
Oil/Hazardous Substances: Discharges (per barrel of oil or unit discharged) Judicial Assessment | 33 U.S.C. 1321(b)(7)(A); 33 CFR 27.3 | 1,951 | 1.06222 | 2,072
Oil/Hazardous Substances: Failure to Carry Out Removal/Comply With Order (Judicial Assessment) | 33 U.S.C. 1321(b)(7)(B); 33 CFR 27.3 | 48,762 | 1.06222 | 51,796
Oil/Hazardous Substances: Failure to Comply with Regulation Issued Under 1321(j) (Judicial Assessment) | 33 U.S.C. 1321(b)(7)(C); 33 CFR 27.3 | 48,762 | 1.06222 | 51,796
Oil/Hazardous Substances: Discharges, Gross Negligence (per barrel of oil or unit discharged) Judicial Assessment | 33 U.S.C. 1321(b)(7)(D); 33 CFR 27.3 | 5,851 | 1.06222 | 6,215
Oil/Hazardous Substances: Discharges, Gross Negligence-Minimum Penalty (Judicial Assessment) | 33 U.S.C. 1321(b)(7)(D); 33 CFR 27.3 | 195,047 | 1.06222 | 207,183
Marine Sanitation Devices; Operating | 33 U.S.C. 1322(j); 33 CFR 27.3 | 8,212 | 1.06222 | 8,723
Marine Sanitation Devices; Sale or Manufacture | 33 U.S.C. 1322(j); 33 CFR 27.3 | 21,896 | 1.06222 | 23,258
International Navigation Rules; Operator | 33 U.S.C. 1608(a); 33 CFR 27.3 | 15,352 | 1.06222 | 16,307
International Navigation Rules; Vessel | 33 U.S.C. 1608(b); 33 CFR 27.3 | 15,352 | 1.06222 | 16,307
Pollution from Ships; General | 33 U.S.C. 1908(b)(1); 33 CFR 27.3 | 76,764 | 1.06222 | 81,540
Pollution from Ships; False Statement | 33 U.S.C. 1908(b)(2); 33 CFR 27.3 | 15,352 | 1.06222 | 16,307
Inland Navigation Rules; Operator | 33 U.S.C. 2072(a); 33 CFR 27.3 | 15,352 | 1.06222 | 16,307
Inland Navigation Rules; Vessel | 33 U.S.C. 2072(b); 33 CFR 27.3 | 15,352 | 1.06222 | 16,307
Shore Protection; General | 33 U.S.C. 2609(a); 33 CFR 27.3 | 54,157 | 1.06222 | 57,527
Shore Protection; Operating Without Permit | 33 U.S.C. 2609(b); 33 CFR 27.3 | 21,663 | 1.06222 | 23,011
Oil Pollution Liability and Compensation | 33 U.S.C. 2716a(a); 33 CFR 27.3 | 48,762 | 1.06222 | 51,796
Clean Hulls | 33 U.S.C. 3852(a)(1)(A); 33 CFR 27.3 | 44,646 | 1.06222 | 47,424
Clean Hulls-related to false statements | 33 U.S.C. 3852(a)(1)(A); 33 CFR 27.3 | 59,528 | 1.06222 | 63,232
Clean Hulls-Recreational Vessel | 33 U.S.C. 3852(c); 33 CFR 27.3 | 5,953 | 1.06222 | 6,323
Hazardous Substances, Releases, Liability, Compensation (Class I) | 42 U.S.C. 9609(a); 33 CFR 27.3 | 59,017 | 1.06222 | 62,689
Hazardous Substances, Releases, Liability, Compensation (Class II) | 42 U.S.C. 9609(b); 33 CFR 27.3 | 59,017 | 1.06222 | 62,689
Hazardous Substances, Releases, Liability, Compensation (Class II subsequent offense) | 42 U.S.C. 9609(b); 33 CFR 27.3 | 177,053 | 1.06222 | 188,069
Hazardous Substances, Releases, Liability, Compensation (Judicial Assessment) | 42 U.S.C. 9609(c); 33 CFR 27.3 | 59,017 | 1.06222 | 62,689
Hazardous Substances, Releases, Liability, Compensation (Judicial Assessment subsequent offense) | 42 U.S.C. 9609(c); 33 CFR 27.3 | 177,053 | 1.06222 | 188,069
Safe Containers for International Cargo | 46 U.S.C. 80509; 33 CFR 27.3 | 6,451 | 1.06222 | 6,852
Suspension of Passenger Service | 46 U.S.C. 70305; 33 CFR 27.3 | 64,515 | 1.06222 | 68,529
Vessel Inspection or Examination Fees | 46 U.S.C. 2110(e); 33 CFR 27.3 | 9,753 | 1.06222 | 10,360
Alcohol and Dangerous Drug Testing | 46 U.S.C. 2115; 33 CFR 27.3 | 7,939 | 1.06222 | 8,433
Negligent Operations: Recreational Vessels | 46 U.S.C. 2302(a); 33 CFR 27.3 | 7,181 | 1.06222 | 7,628
Negligent Operations: Other Vessels | 46 U.S.C. 2302(a); 33 CFR 27.3 | 35,905 | 1.06222 | 38,139
Operating a Vessel While Under the Influence of Alcohol or a Dangerous Drug | 46 U.S.C. 2302(c)(1); 33 CFR 27.3 | 7,939 | 1.06222 | 8,433
Vessel Reporting Requirements: Owner, Charterer, Managing Operator, or Agent | 46 U.S.C. 2306(a)(4); 33 CFR 27.3 | 12,363 | 1.06222 | 13,132
Vessel Reporting Requirements: Master | 46 U.S.C. 2306(b)(2); 33 CFR 27.3 | 2,473 | 1.06222 | 2,627
Immersion Suits | 46 U.S.C. 3102(c)(1); 33 CFR 27.3 | 12,363 | 1.06222 | 13,132
Inspection Permit | 46 U.S.C. 3302(i)(5); 33 CFR 27.3 | 2,579 | 1.06222 | 2,739
Vessel Inspection; General | 46 U.S.C. 3318(a); 33 CFR 27.3 | 12,363 | 1.06222 | 13,132
Vessel Inspection; Nautical School Vessel | 46 U.S.C. 3318(g); 33 CFR 27.3 | 12,363 | 1.06222 | 13,132
Vessel Inspection; Failure to Give Notice in accordance with (IAW) 3304(b) | 46 U.S.C. 3318(h); 33 CFR 27.3 | 2,473 | 1.06222 | 2,627
Vessel Inspection; Failure to Give Notice IAW 3309(c) | 46 U.S.C. 3318(i); 33 CFR 27.3 | 2,473 | 1.06222 | 2,627
Vessel Inspection; Vessel ≥1600 Gross Tons | 46 U.S.C. 3318(j)(1); 33 CFR 27.3 | 24,730 | 1.06222 | 26,269
Vessel Inspection; Vessel <1600 Gross Tons (GT) | 46 U.S.C. 3318(j)(1); 33 CFR 27.3 | 4,946 | 1.06222 | 5,254
Vessel Inspection; Failure to Comply with 3311(b) | 46 U.S.C. 3318(k); 33 CFR 27.3 | 24,730 | 1.06222 | 26,269
Vessel Inspection; Violation of 3318(b)-3318(f) | 46 U.S.C. 3318(l); 33 CFR 27.3 | 12,363 | 1.06222 | 13,132
List/count of Passengers | 46 U.S.C. 3502(e); 33 CFR 27.3 | 257 | 1.06222 | 273
Notification to Passengers | 46 U.S.C. 3504(c); 33 CFR 27.3 | 25,780 | 1.06222 | 27,384
Notification to Passengers; Sale of Tickets | 46 U.S.C. 3504(c); 33 CFR 27.3 | 1,288 | 1.06222 | 1,368
Copies of Laws on Passenger Vessels; Master | 46 U.S.C. 3506; 33 CFR 27.3 | 516 | 1.06222 | 548
Liquid Bulk/Dangerous Cargo | 46 U.S.C. 3718(a)(1); 33 CFR 27.3 | 64,452 | 1.06222 | 68,462
Uninspected Vessels | 46 U.S.C. 4106; 33 CFR 27.3 | 10,832 | 1.06222 | 11,506
Recreational Vessels (maximum for related series of violations) | 46 U.S.C. 4311(b)(1); 33 CFR 27.3 | 341,000 | 1.06222 | 362,217
Recreational Vessels; Violation of 4307(a) | 46 U.S.C. 4311(b)(1); 33 CFR 27.3 | 6,820 | 1.06222 | 7,244
Recreational vessels | 46 U.S.C. 4311(c); 33 CFR 27.3 | 2,579 | 1.06222 | 2,739
Uninspected Commercial Fishing Industry Vessels | 46 U.S.C. 4507; 33 CFR 27.3 | 10,832 | 1.06222 | 11,506
Abandonment of Barges | 46 U.S.C. 4703; 33 CFR 27.3 | 1,835 | 1.06222 | 1,949
Load Lines | 46 U.S.C. 5116(a); 33 CFR 27.3 | 11,803 | 1.06222 | 12,537
Load Lines; Violation of 5112(a) | 46 U.S.C. 5116(b); 33 CFR 27.3 | 23,607 | 1.06222 | 25,076
Load Lines; Violation of 5112(b) | 46 U.S.C. 5116(c); 33 CFR 27.3 | 11,803 | 1.06222 | 12,537
Reporting Marine Casualties | 46 U.S.C. 6103(a); 33 CFR 27.3 | 41,120 | 1.06222 | 43,678
Reporting Marine Casualties; Violation of 6104 | 46 U.S.C. 6103(b); 33 CFR 27.3 | 10,832 | 1.06222 | 11,506
Manning of Inspected Vessels; Failure to Report Deficiency in Vessel Complement | 46 U.S.C. 8101(e); 33 CFR 27.3 | 1,951 | 1.06222 | 2,072
Manning of Inspected Vessels | 46 U.S.C. 8101(f); 33 CFR 27.3 | 19,505 | 1.06222 | 20,719
Manning of Inspected Vessels; Employing or Serving in Capacity not Licensed by USCG | 46 U.S.C. 8101(g); 33 CFR 27.3 | 19,505 | 1.06222 | 20,719
Manning of Inspected Vessels; Freight Vessel <100 GT, Small Passenger Vessel, or Sailing School Vessel | 46 U.S.C. 8101(h); 33 CFR 27.3 | 2,579 | 1.06222 | 2,739
Watchmen on Passenger Vessels | 46 U.S.C. 8102(a) | 2,579 | 1.06222 | 2,739
Citizenship Requirements | 46 U.S.C. 8103(f) | 1,288 | 1.06222 | 1,368
Watches on Vessels; Violation of 8104(a) or (b) | 46 U.S.C. 8104(i) | 19,505 | 1.06222 | 20,719
Watches on Vessels; Violation of 8104(c), (d), (e), or (h) | 46 U.S.C. 8104(j) | 19,505 | 1.06222 | 20,719
Staff Department on Vessels | 46 U.S.C. 8302(e) | 257 | 1.06222 | 273
Officer's Competency Certificates | 46 U.S.C. 8304(d) | 257 | 1.06222 | 273
Coastwise Pilotage; Owner, Charterer, Managing Operator, Agent, Master or Individual in Charge | 46 U.S.C. 8502(e) | 19,505 | 1.06222 | 20,719
Coastwise Pilotage; Individual | 46 U.S.C. 8502(f) | 19,505 | 1.06222 | 20,719
Federal Pilots | 46 U.S.C. 8503 | 61,820 | 1.06222 | 65,666
Merchant Mariners Documents | 46 U.S.C. 8701(d) | 1,288 | 1.06222 | 1,368
Crew Requirements | 46 U.S.C. 8702(e) | 19,505 | 1.06222 | 20,719
Small Vessel Manning | 46 U.S.C. 8906 | 41,120 | 1.06222 | 43,678
Pilotage: Great Lakes; Owner, Charterer, Managing Operator, Agent, Master or Individual in Charge | 46 U.S.C. 9308(a) | 19,505 | 1.06222 | 20,719
Pilotage: Great Lakes; Individual | 46 U.S.C. 9308(b) | 19,505 | 1.06222 | 20,719
Pilotage: Great Lakes; Violation of 9303 | 46 U.S.C. 9308(c) | 19,505 | 1.06222 | 20,719
Failure to Report Sexual Offense | 46 U.S.C. 10104(b) | 10,366 | 1.06222 | 11,011
Pay Advances to Seamen | 46 U.S.C. 10314(a)(2) | 1,288 | 1.06222 | 1,368
Pay Advances to Seamen; Remuneration for Employment | 46 U.S.C. 10314(b) | 1,288 | 1.06222 | 1,368
Allotment to Seamen | 46 U.S.C. 10315(c) | 1,288 | 1.06222 | 1,368
Seamen Protection; General | 46 U.S.C. 10321 | 8,935 | 1.06222 | 9,491
Coastwise Voyages: Advances | 46 U.S.C. 10505(a)(2) | 8,935 | 1.06222 | 9,491
Coastwise Voyages: Advances; Remuneration for Employment | 46 U.S.C. 10505(b) | 8,935 | 1.06222 | 9,491
Coastwise Voyages: Seamen Protection; General | 46 U.S.C. 10508(b) | 8,935 | 1.06222 | 9,491
Effects of Deceased Seamen | 46 U.S.C. 10711 | 516 | 1.06222 | 548
Complaints of Unfitness | 46 U.S.C. 10902(a)(2) | 1,288 | 1.06222 | 1,368
Proceedings on Examination of Vessel | 46 U.S.C. 10903(d) | 257 | 1.06222 | 273
Permission to Make Complaint | 46 U.S.C. 10907(b) | 1,288 | 1.06222 | 1,368
Accommodations for Seamen | 46 U.S.C. 11101(f) | 1,288 | 1.06222 | 1,368
Medicine Chests on Vessels | 46 U.S.C. 11102(b) | 1,288 | 1.06222 | 1,368
Destitute Seamen | 46 U.S.C. 11104(b) | 257 | 1.06222 | 273
Wages on Discharge | 46 U.S.C. 11105(c) | 1,288 | 1.06222 | 1,368
Log Books; Master Failing to Maintain | 46 U.S.C. 11303(a) | 516 | 1.06222 | 548
Log Books; Master Failing to Make Entry | 46 U.S.C. 11303(b) | 516 | 1.06222 | 548
Log Books; Late Entry | 46 U.S.C. 11303(c) | 387 | 1.06222 | 411
Carrying of Sheath Knives | 46 U.S.C. 11506 | 129 | 1.06222 | 137
Vessel Documentation | 46 U.S.C. 12151(a)(1) | 16,884 | 1.06222 | 17,935
Documentation of Vessels—Related to Activities involving mobile offshore drilling units | 46 U.S.C. 12151 (a)(2) | 28,142 | 1.06222 | 29,893
Vessel Documentation; Fishery Endorsement | 46 U.S.C. 12151(c) | 129,032 | 1.06222 | 137,060
Numbering of Undocumented Vessels—Willful violation | 46 U.S.C. 12309(a) | 12,891 | 1.06222 | 13,693
Numbering of Undocumented Vessels | 46 U.S.C. 12309(b) | 2,579 | 1.06222 | 2,739
Vessel Identification System | 46 U.S.C. 12507(b) | 21,663 | 1.06222 | 23,011
Measurement of Vessels | 46 U.S.C. 14701 | 47,216 | 1.06222 | 50,154
Measurement; False Statements | 46 U.S.C. 14702 | 47,216 | 1.06222 | 50,154
Commercial Instruments and Maritime Liens | 46 U.S.C. 31309 | 21,663 | 1.06222 | 23,011
Commercial Instruments and Maritime Liens; Mortgagor | 46 U.S.C. 31330(a)(2) | 21,663 | 1.06222 | 23,011
Commercial Instruments and Maritime Liens; Violation of 31329 | 46 U.S.C. 31330(b)(2) | 54,157 | 1.06222 | 57,527
Ports and Waterway Safety Regulations | 46 U.S.C. 70036(a); 33 CFR 27.3 | 97,014 | 1.06222 | 103,050
Vessel Navigation: Regattas or Marine Parades; Unlicensed Person in Charge | 46 U.S.C. 70041(d)(1)(B); 33 CFR 27.3 | 9,753 | 1.06222 | 10,360
Vessel Navigation: Regattas or Marine Parades; Owner Onboard Vessel | 46 U.S.C. 70041(d)(1)(C); 33 CFR 27.3 | 9,753 | 1.06222 | 10,360
Vessel Navigation: Regattas or Marine Parades; Other Persons | 46 U.S.C. 70041(d)(1)(D); 33 CFR 27.3 | 4,876 | 1.06222 | 5,179
Port Security | 46 U.S.C. 70119(a) | 35,905 | 1.06222 | 38,139
Port Security—Continuing Violations | 46 U.S.C. 70119(b) | 64,515 | 1.06222 | 68,529
Maritime Drug Law Enforcement | 46 U.S.C. 70506(c) | 5,953 | 1.06222 | 6,323
Hazardous Materials: Related to Vessels | 49 U.S.C. 5123(a)(1) | 84,425 | 1.06222 | 89,678
Hazardous Materials: Related to Vessels-Penalty from Fatalities, Serious Injuries/Illness or substantial Damage to Property | 49 U.S.C. 5123(a)(2) | 196,992 | 1.06222 | 209,249
Hazardous Materials: Related to Vessels; Training | 49 U.S.C. 5123(a)(3) | 508 | 1.06222 | 540
* Office of Mgmt. and Budget, Exec. Office of the President, M-22-07, Implementation of Penalty Inflation Adjustments for 2022, Pursuant to the Federal Civil Penalties Inflation Adjustment Act Improvements Act of 2015 (Dec. 15, 2021) (https://www.whitehouse.gov/wp-content/uploads/2021/12/M-22-07.pdf).
** Enacted under the Tariff Act; exempt from inflation adjustments.

E. Transportation Security Administration

The Transportation Security Administration (TSA) is updating its civil penalties regulation in accordance with the 2015 Act. Pursuant to its statutory authority in 49 U.S.C. 46301(a)(1), (4), (5), (6), 49 U.S.C. 46301(d)(2), (8), and 49 U.S.C. 114(u), TSA may impose penalties for violations of statutes that TSA administers, including penalties for violations of implementing regulations or orders. Note that pursuant to division K, title I, sec. 1904(b)(1)(I), of Public Law 115-254, 132 Stat. 3186, 3545 (Oct. 5, 2018), the TSA Modernization Act—part of the FAA Reauthorization Act of 2018—the former 49 U.S.C. 114(v), which relates to penalties, was re-designated as 49 U.S.C. 114(u).

TSA assesses these penalties for a wide variety of aviation and surface security requirements, including violations of TSA's requirements applicable to Transportation Worker Identification Credentials (TWIC),¹³ as well as violations of requirements described in chapter 449 of title 49 of the U.S.C. These penalties can apply to a wide variety of situations, as described in the statutory and regulatory provisions, as well as in guidance that TSA publishes. Below is a table showing the 2022 adjustment for the penalties that TSA administers.

¹³ See, e.g., 46 U.S.C. 70105, 49 U.S.C. 46302 and 46303, and 49 U.S.C. chapter 449.

Table 5—Transportation Security Administration Civil Penalties Adjustments
Penalty name | Citation | Penalty amount as adjusted in the 2021 FR | Multiplier * | New penalty as adjusted by this final rule
Violation of 49 U.S.C. ch. 449 (except secs. 44902, 44903(d), 44907(a)-(d)(1)(A), 44907(d)(1)(C)-(f), 44908, and 44909), or 49 U.S.C. 46302 or 46303, a regulation prescribed, or order issued thereunder by a person operating an aircraft for the transportation of passengers or property for compensation. | 49 U.S.C. 46301(a)(1), (4), (5), (6); 49 U.S.C. 46301(d)(2), (8); 49 CFR 1503.401(c)(3). | $35,188 (up to a total of $562,996 per civil penalty action) | 1.06222 | $37,377 (up to a total of $598,026 per civil penalty action).
Violation of 49 U.S.C. ch. 449 (except secs. 44902, 44903(d), 44907(a)-(d)(1)(A), 44907(d)(1)(C)-(f), 44908, and 44909), or 49 U.S.C. 46302 or 46303, a regulation prescribed, or order issued thereunder by an individual (except an airman serving as an airman), any person not operating an aircraft for the transportation of passengers or property for compensation, or a small business concern. | 49 U.S.C. 46301(a)(1), (4), (5); 49 U.S.C. 46301(d)(8); 49 CFR 1503.401(c)(1) and (2). | $14,074 (up to a total of $70,375 for individuals or small businesses, $562,996 for others) | 1.06222 | $14,950 (up to a total of $74,754 for individuals or small businesses, $598,026 for others).
Violation of any other provision of title 49 U.S.C. or of 46 U.S.C. ch. 701, a regulation prescribed, or order issued thereunder. | 49 U.S.C. 114(u); 49 CFR 1503.401(b). | $12,045 (up to a total of $60,226 total for individuals or small businesses, $481,802 for others) | 1.06222 | $12,794 (up to a total of $63,973 total for individuals or small businesses, $511,780 for others).
* Office of Mgmt. and Budget, Exec. Office of the President, M-22-07, Implementation of Penalty Inflation Adjustments for 2022, Pursuant to the Federal Civil Penalties Inflation Adjustment Act Improvements Act of 2015 (Dec. 15, 2021) (https://www.whitehouse.gov/wp-content/uploads/2021/12/M-22-07.pdf).

IV. Administrative Procedure Act

DHS is promulgating this final rule to ensure that the amount of civil penalties that DHS assesses or enforces reflects the statutorily mandated ranges as adjusted for inflation. The 2015 Act provides a clear formula for adjustment of the civil penalties, leaving DHS and its components with little room for discretion. DHS and its components have been charged only with performing ministerial computations to determine the amounts of adjustments for inflation to civil monetary penalties. In these annual adjustments DHS is merely updating the penalty amounts by applying the cost-of-living adjustment multiplier that OMB has provided to agencies. Furthermore, the 2015 Act specifically instructed that agencies make the required annual adjustments notwithstanding section 553 of title 5 of the U.S.C. Thus, as specified in the 2015 Act, the prior public notice-and-comment procedures and delayed effective date requirements of the Administrative Procedure Act (APA) do not apply to this rule. Further, as described above, this rule makes minor amendments to the regulations to reflect changes required by clear statutory authority, and DHS finds that prior notice and comment procedures and a delayed effective date for these amendments are unnecessary.

V. Regulatory Analyses

A. Executive Orders 12866 and 13563

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

OMB has not designated this final rule a “significant regulatory action” under section 3(f) of Executive Order 12866. Accordingly, OMB has not reviewed this rule.

This final rule makes nondiscretionary adjustments to existing civil monetary penalties in accordance with the 2015 Act and OMB guidance.¹⁴ DHS therefore did not consider alternatives and does not have the flexibility to alter the adjustments of the civil monetary penalty amounts as provided in this rule. To the extent this final rule increases civil monetary penalties, it would result in an increase in transfers from persons or entities assessed a civil monetary penalty to the government.

¹⁴ Office of Mgmt. and Budget, Exec. Office of the President, M-22-07, Implementation of Penalty Inflation Adjustments for 2022, Pursuant to the Federal Civil Penalties Inflation Adjustment Act Improvements Act of 2015 (Dec. 15, 2021) (https://www.whitehouse.gov/wp-content/uploads/2021/12/M-22-07.pdf).

B. Regulatory Flexibility Act

The Regulatory Flexibility Act applies only to rules for which an agency publishes a notice of proposed rulemaking pursuant to 5 U.S.C. 553(b). See 5 U.S.C. 601-612. The Regulatory Flexibility Act does not apply to this final rule because a notice of proposed rulemaking was not required for the reasons stated above.

C. Unfunded Mandates Reform Act

The Unfunded Mandates Reform Act of 1995, 2 U.S.C. 1531-1538, requires Federal agencies to assess the effects of their discretionary regulatory actions. In particular, the Act addresses actions that may result in the expenditure by a State, local, or Tribal government, in the aggregate, or by the private sector of $100,000,000 (adjusted for inflation) or more in any one year. This final rule will not result in such an expenditure.

D. Paperwork Reduction Act

The provisions of the Paperwork Reduction Act of 1995, 44 U.S.C. chapter 35, and its implementing regulations, 5 CFR part 1320, do not apply to this final rule, because this final rule does not trigger any new or revised recordkeeping or reporting.

VI. Signing Authorities

The amendments to 19 CFR part 4 in this document are issued in accordance with 19 CFR 0.2(a), which provides that the authority of the Secretary of the Treasury with respect to CBP regulations that are not related to customs revenue functions was transferred to the Secretary of Homeland Security pursuant to Section 403(l) of the Homeland Security Act of 2002. Accordingly, this final rule to amend such regulations may be signed by the Secretary of Homeland Security (or his or her delegate).

List of Subjects

6 CFR Part 27

Reporting and recordkeeping requirements, Security measures.

8 CFR Part 270

Administrative practice and procedure, Aliens, Employment, Fraud, Penalties.

8 CFR Part 274a

Administrative practice and procedure, Aliens, Employment, Penalties, Reporting and recordkeeping requirements.

8 CFR Part 280

Administrative practice and procedure, Immigration, Penalties.

19 CFR Part 4

Exports, Freight, Harbors, Maritime carriers, Oil pollution, Reporting and recordkeeping requirements, Vessels.

33 CFR Part 27

Administrative practice and procedure, Penalties.

49 CFR Part 1503

Administrative practice and procedure, Investigations, Law enforcement, Penalties.

Amendments to the Regulations

Accordingly, for the reasons stated in the preamble, DHS is amending 6 CFR part 27, 8 CFR parts 270, 274a, and 280, 19 CFR part 4, 33 CFR part 27, and 49 CFR part 1503 as follows:

Title 6—Domestic Security

PART 27—CHEMICAL FACILITY ANTI-TERRORISM STANDARDS

1. The authority citation for part 27 continues to read as follows:

Authority: 6 U.S.C. 624; Pub. L. 101-410, 104 Stat. 890, as amended by Pub. L. 114-74, 129 Stat. 599; Pub. L. 113-254, 128 Stat. 2898, as amended by Pub. L. 116-150, 134 Stat. 679.

2. In § 27.300, revise paragraph (b)(3) to read as follows:

§ 27.300 Orders.

* * * * *

(b) * * *

(3) Where the Assistant Secretary determines that a facility is in violation of an Order issued pursuant to paragraph (a) of this section and issues an Order Assessing Civil Penalty pursuant to paragraph (b)(1) of this section, a chemical facility is liable to the United States for a civil penalty of not more than $25,000 for each day during which the violation continues, if the violation of the Order occurred on or before November 2, 2015, or $38,139 for each day during which the violation of the Order continues, if the violation occurred after November 2, 2015.

* * * * *

Title 8—Aliens and Nationality

PART 270—PENALTIES FOR DOCUMENT FRAUD

3. The authority citation for part 270 continues to read as follows:

Authority: 8 U.S.C. 1101, 1103, and 1324c; Pub. L. 101-410, 104 Stat. 890, as amended by Pub. L. 104-134, 110 Stat. 1321 and Pub. L. 114-74, 129 Stat. 599.

4. In § 270.3, revise paragraphs (b)(1)(ii)(A) through (D) to read as follows:

§ 270.3 Penalties.

* * * * *

(b) * * *

(1) * * *

(ii) * * *

(A) First offense under section 274C(a)(1) through (a)(4). Not less than $275 and not exceeding $2,200 for each fraudulent document or each proscribed activity described in section 274C(a)(1) through (a)(4) of the Act before March 27, 2008; not less than $375 and not exceeding $3,200 for each fraudulent document or each proscribed activity described in section 274C(a)(1) through (a)(4) of the Act on or after March 27, 2008, and on or before November 2, 2015; and not less than $517 and not exceeding $4,144 for each fraudulent document or each proscribed activity described in section 274C(a)(1) through (a)(4) of the Act after November 2, 2015.

(B) First offense under section 274C(a)(5) or (a)(6). Not less than $250 and not exceeding $2,000 for each fraudulent document or each proscribed activity described in section 274C(a)(5) or (a)(6) of the Act before March 27, 2008; not less than $275 and not exceeding $2,200 for each fraudulent document or each proscribed activity described in section 274C(a)(5) or (a)(6) of the Act on or after March 27, 2008, and on or before November 2, 2015; and not less than $438 and not exceeding $3,494 for each fraudulent document or each proscribed activity described in section 274C(a)(5) or (a)(6) of the Act after November 2, 2015.

(C) Subsequent offenses under section 274C(a)(1) through (a)(4). Not less than $2,200 and not more than $5,500 for each fraudulent document or each proscribed activity described in section 274C(a)(1) through (a)(4) of the Act before March 27, 2008; not less than $3,200 and not exceeding $6,500 for each fraudulent document or each proscribed activity described in section 274C(a)(1) through (a)(4) of the Act occurring on or after March 27, 2008 and on or before November 2, 2015; and not less than $4,144 and not more than $10,360 for each fraudulent document or each proscribed activity described in section 274C(a)(1) through (a)(4) of the Act after November 2, 2015.

(D) Subsequent offenses under section 274C(a)(5) or (a)(6). Not less than $2,000 and not more than $5,000 for each fraudulent document or each proscribed activity described in section 274C(a)(5) or (a)(6) of the Act before March 27, 2008; not less than $2,200 and not exceeding $5,500 for each fraudulent document or each proscribed activity described in section 274C(a)(5) or (a)(6) of the Act occurring on or after March 27, 2008, and on or before November 2, 2015; and not less than $3,494 and not more than $8,736 for each fraudulent document or each proscribed activity described in section 274C(a)(5) or (a)(6) of the Act after November 2, 2015.

* * * * *

PART 274a—CONTROL OF EMPLOYMENT OF ALIENS

5. The authority citation for part 274a continues to read as follows:

Authority: 8 U.S.C. 1101, 1103, 1105a, 1324a; 48 U.S.C. 1806; 8 CFR part 2; Pub. L. 101-410, 104 Stat. 890, as amended by Pub. L. 114-74, 129 Stat. 599.

6. In § 274a.8, revise paragraph (b) to read as follows:

§ 274a.8 Prohibition of indemnity bonds.

* * * * *

(b) Penalty. Any person or other entity who requires any individual to post a bond or security as stated in this section shall, after notice and opportunity for an administrative hearing in accordance with section 274A(e)(3)(B) of the Act, be subject to a civil monetary penalty of $1,000 for each violation before September 29, 1999, of $1,100 for each violation occurring on or after September 29, 1999, but on or before November 2, 2015, and of $2,507 for each violation occurring after November 2, 2015, and to an administrative order requiring the return to the individual of any amounts received in violation of this section or, if the individual cannot be located, to the general fund of the Treasury.

7. In § 274a.10, revise paragraphs (b)(1)(ii)(A) through (C) and the first sentence of paragraph (b)(2) introductory text to read as follows:

§ 274a.10 Penalties.

* * * * *

(b) * * *

(1) * * *

(ii) * * *

(A) First offense—not less than $275 and not more than $2,200 for each unauthorized alien with respect to whom the offense occurred before March 27, 2008; not less than $375 and not exceeding $3,200, for each unauthorized alien with respect to whom the offense occurred occurring on or after March 27, 2008, and on or before November 2, 2015; and not less than $627 and not more than $5,016 for each unauthorized alien with respect to whom the offense occurred occurring after November 2, 2015;

(B) Second offense—not less than $2,200 and not more than $5,500 for each unauthorized alien with respect to whom the second offense occurred before March 27, 2008; not less than $3,200 and not more than $6,500, for each unauthorized alien with respect to whom the second offense occurred on or after March 27, 2008, and on or before November 2, 2015; and not less than $5,016 and not more than $12,537 for each unauthorized alien with respect to whom the second offense occurred after November 2, 2015; or

(C) More than two offenses—not less than $3,300 and not more than $11,000 for each unauthorized alien with respect to whom the third or subsequent offense occurred before March 27, 2008; not less than $4,300 and not exceeding $16,000, for each unauthorized alien with respect to whom the third or subsequent offense occurred on or after March 27, 2008, and on or before November 2, 2015; and not less than $7,523 and not more than $25,076 for each unauthorized alien with respect to whom the third or subsequent offense occurred after November 2, 2015; and

* * * * *

(2) A respondent determined by the Service (if a respondent fails to request a hearing) or by an administrative law judge, to have failed to comply with the employment verification requirements as set forth in § 274a.2(b), shall be subject to a civil penalty in an amount of not less than $100 and not more than $1,000 for each individual with respect to whom such violation occurred before September 29, 1999; not less than $110 and not more than $1,100 for each individual with respect to whom such violation occurred on or after September 29, 1999, and on or before November 2, 2015; and not less than $252 and not more than $2,507 for each individual with respect to whom such violation occurred after November 2, 2015. * * *

* * * * *

PART 280—IMPOSITION AND COLLECTION OF FINES

8. The authority citation for part 280 continues to read as follows:

Authority: 8 U.S.C. 1103, 1221, 1223, 1227, 1229, 1253, 1281, 1283, 1284, 1285, 1286, 1322, 1323, 1330; 66 Stat. 173, 195, 197, 201, 203, 212, 219, 221-223, 226, 227, 230; Pub. L. 101-410, 104 Stat. 890, as amended by Pub. L. 114-74, 129 Stat. 599.

9. In § 280.53, revise paragraphs (b)(1) through (15) to read as follows:

§ 280.53 Civil monetary penalties inflation adjustment.

* * * * *

(b) * * *

(1) Section 231(g) of the Act, penalties for non-compliance with arrival and departure manifest requirements for passengers, crewmembers, or occupants transported on commercial vessels or aircraft arriving to or departing from the United States: From $1,436 to $1,525.

(2) Section 234 of the Act, penalties for non-compliance with landing requirements at designated ports of entry for aircraft transporting aliens: From $3,901 to $4,144.

(3) Section 240B(d) of the Act, penalties for failure to depart voluntarily: From $1,644 minimum/$8,224 maximum to $1,746 minimum/$8,736 maximum.

(4) Section 243(c)(1)(A) of the Act, penalties for violations of removal orders relating to aliens transported on vessels or aircraft, under section 241(d) of the Act, or for costs associated with removal under section 241(e) of the Act: From $3,289 to $3,494.

(5) Penalties for failure to remove alien stowaways under section 241(d)(2) of the Act: From $8,224 to $8,736.

(6) Section 251(d) of the Act, penalties for failure to report an illegal landing or desertion of alien crewmen, and for each alien not reported on arrival or departure manifest or lists required in accordance with section 251 of the Act: From $390 to $414; and penalties for use of alien crewmen for longshore work in violation of section 251(d) of the Act: From $9,753 to $10,360.

(7) Section 254(a) of the Act, penalties for failure to control, detain, or remove alien crewmen: From $975 minimum/$5,851 maximum to $1,036 minimum/$6,215 maximum.

(8) Section 255 of the Act, penalties for employment on passenger vessels of aliens afflicted with certain disabilities: From $1,951 to $2,072.

(9) Section 256 of the Act, penalties for discharge of alien crewmen: From $2,925 minimum/$5,851 maximum to $3,107 minimum/$6,215 maximum.

(10) Section 257 of the Act, penalties for bringing into the United States alien crewmen with intent to evade immigration laws: From $19,505 maximum to $20,719 maximum.

(11) Section 271(a) of the Act, penalties for failure to prevent the unauthorized landing of aliens: From $5,851 to $6,215.

(12) Section 272(a) of the Act, penalties for bringing to the United States aliens subject to denial of admission on a health-related ground: From $5,851 to $6,215.

(13) Section 273(b) of the Act, penalties for bringing to the United States aliens without required documentation: From $5,851 to $6,215.

(14) Section 274D of the Act, penalties for failure to depart: From $823 maximum to $874 maximum, for each day the alien is in violation.

(15) Section 275(b) of the Act, penalties for improper entry: From $82 minimum/$412 maximum to $87 minimum/$438 maximum, for each entry or attempted entry.

Title 19—Customs Duties

PART 4—VESSELS IN FOREIGN AND DOMESTIC TRADES

10. The authority citation for part 4 continues to read in part as follows:

Authority: 5 U.S.C. 301; 19 U.S.C. 66, 1415, 1431, 1433, 1434, 1624, 2071 note; 46 U.S.C. 501, 60105.

* * * * *

Sections 4.80, 4.80a, and 4.80b also issued under 19 U.S.C. 1706a; 28 U.S.C. 2461 note; 46 U.S.C. 12112, 12117, 12118, 50501-55106, 55107, 55108, 55110, 55114, 55115, 55116, 55117, 55119, 56101, 55121, 56101, 57109; Pub. L. 108-7, Division B, Title II, § 211;

* * * * *

Section 4.92 also issued under 28 U.S.C. 2461 note; 46 U.S.C. 55111;

* * * * *

11. In § 4.80, revise paragraphs (b)(2) and (i) to read as follows:

§ 4.80 Vessels entitled to engage in coastwise trade.

* * * * *

(b) * * *

(2) The penalty imposed for the unlawful transportation of passengers between coastwise points is $300 for each passenger so transported and landed on or before November 2, 2015, and $873 for each passenger so transported and landed after November 2, 2015 (46 U.S.C. 55103, as adjusted by the Federal Civil Penalties Inflation Adjustment Act Improvements Act of 2015).

* * * * *

(i) Any vessel, entitled to be documented and not so documented, employed in a trade for which a Certificate of Documentation is issued under the vessel documentation laws (see § 4.0(c)), other than a trade covered by a registry, is liable to a civil penalty of $500 for each port at which it arrives without the proper Certificate of Documentation on or before November 2, 2015, and $1,453 for each port at which it arrives without the proper Certificate of Documentation after November 2, 2015 (19 U.S.C. 1706a, as adjusted by the Federal Civil Penalties Inflation Adjustment Act Improvements Act of 2015). If such a vessel has on board any foreign merchandise (sea stores excepted), or any domestic taxable alcoholic beverages, on which the duty and taxes have not been paid or secured to be paid, the vessel and its cargo are subject to seizure and forfeiture.

12. In § 4.92, revise the third sentence to read as follows:

§ 4.92 Towing.

* * * The penalties for violation of this section occurring after November 2, 2015, are a fine of from $1,017 to $3,198 against the owner or master of the towing vessel and a further penalty against the towing vessel of $174 per ton of the towed vessel (46 U.S.C. 55111, as adjusted by the Federal Civil Penalties Inflation Adjustment Act Improvements Act of 2015).

Title 33—Navigation and Navigable Waters

PART 27—ADJUSTMENT OF CIVIL MONETARY PENALTIES FOR INFLATION

13. The authority citation for part 27 continues to read as follows:

Authority: Secs. 1-6, Pub. L. 101-410, 104 Stat. 890, as amended by Sec. 31001(s)(1), Pub. L. 104-134, 110 Stat. 1321 (28 U.S.C. 2461 note); Department of Homeland Security Delegation No. 0170.1, sec. 2 (106).

14. In § 27.3, revise the third sentence of the introductory text and table 1 to read as follows:

§ 27.3 Penalty adjustment table.

* * * The adjusted civil penalty amounts listed in Table 1 to this section are applicable for penalty assessments issued after January 11, 2022, with respect to violations occurring after November 2, 2015. * * *

Table 1 to § 27.3—Civil Monetary Penalty Inflation Adjustments
U.S. code citation | Civil monetary penalty description | 2022 Adjusted maximum penalty amount ($)
14 U.S.C. 521(c) | Saving Life and Property | 11,649
14 U.S.C. 521(e) | Saving Life and Property; Intentional Interference with Broadcast | 1,195
14 U.S.C. 936(i) | Confidentiality of Medical Quality Assurance Records (first offense) | 5,851
14 U.S.C. 936(i) | Confidentiality of Medical Quality Assurance Records (subsequent offenses) | 39,011
19 U.S.C. 70 | Obstruction of Revenue Officers by Masters of Vessels | 8,723
19 U.S.C. 70 | Obstruction of Revenue Officers by Masters of Vessels—Minimum Penalty | 2,035
19 U.S.C. 1581(d) | Failure to Stop Vessel When Directed; Master, Owner, Operator or Person in Charge ¹ | 5,000
19 U.S.C. 1581(d) | Failure to Stop Vessel When Directed; Master, Owner, Operator or Person in Charge—Minimum Penalty ¹ | 1,000
33 U.S.C. 471 | Anchorage Ground/Harbor Regulations General | 12,647
33 U.S.C. 474 | Anchorage Ground/Harbor Regulations St. Mary's River | 873
33 U.S.C. 495(b) | Bridges/Failure to Comply with Regulations | 31,928
33 U.S.C. 499(c) | Bridges/Drawbridges | 31,928
33 U.S.C. 502(c) | Bridges/Failure to Alter Bridge Obstructing Navigation | 31,928
33 U.S.C. 533(b) | Bridges/Maintenance and Operation | 31,928
33 U.S.C. 1208(a) | Bridge to Bridge Communication; Master, Person in Charge or Pilot | 2,326
33 U.S.C. 1208(b) | Bridge to Bridge Communication; Vessel | 2,326
33 U.S.C. 1321(b)(6)(B)(i) | Oil/Hazardous Substances: Discharges (Class I per violation) | 20,719
33 U.S.C. 1321(b)(6)(B)(i) | Oil/Hazardous Substances: Discharges (Class I total under paragraph) | 51,796
33 U.S.C. 1321(b)(6)(B)(ii) | Oil/Hazardous Substances: Discharges (Class II per day of violation) | 20,719
33 U.S.C. 1321(b)(6)(B)(ii) | Oil/Hazardous Substances: Discharges (Class II total under paragraph) | 258,978
33 U.S.C. 1321(b)(7)(A) | Oil/Hazardous Substances: Discharges (per day of violation) Judicial Assessment | 51,796
33 U.S.C. 1321(b)(7)(A) | Oil/Hazardous Substances: Discharges (per barrel of oil or unit discharged) Judicial Assessment | 2,072
33 U.S.C. 1321(b)(7)(B) | Oil/Hazardous Substances: Failure to Carry Out Removal/Comply With Order (Judicial Assessment) | 51,796
33 U.S.C. 1321(b)(7)(C) | Oil/Hazardous Substances: Failure to Comply with Regulation Issued Under 1321(j) (Judicial Assessment) | 51,796
33 U.S.C. 1321(b)(7)(D) | Oil/Hazardous Substances: Discharges, Gross Negligence (per barrel of oil or unit discharged) Judicial Assessment | 6,215
33 U.S.C. 1321(b)(7)(D) | Oil/Hazardous Substances: Discharges, Gross Negligence—Minimum Penalty (Judicial Assessment) | 207,183
33 U.S.C. 1322(j) | Marine Sanitation Devices; Operating | 8,723
33 U.S.C. 1322(j) | Marine Sanitation Devices; Sale or Manufacture | 23,258
33 U.S.C. 1608(a) | International Navigation Rules; Operator | 16,307
33 U.S.C. 1608(b) | International Navigation Rules; Vessel | 16,307
33 U.S.C. 1908(b)(1) | Pollution from Ships; General | 81,540
33 U.S.C. 1908(b)(2) | Pollution from Ships; False Statement | 16,307
33 U.S.C. 2072(a) | Inland Navigation Rules; Operator | 16,307
33 U.S.C. 2072(b) | Inland Navigation Rules; Vessel | 16,307
33 U.S.C. 2609(a) | Shore Protection; General | 57,527
33 U.S.C. 2609(b) | Shore Protection; Operating Without Permit | 23,011
33 U.S.C. 2716a(a) | Oil Pollution Liability and Compensation | 51,796
33 U.S.C. 3852(a)(1)(A) | Clean Hulls; Civil Enforcement | 47,424
33 U.S.C. 3852(a)(1)(A) | Clean Hulls; related to false statements | 63,232
33 U.S.C. 3852(c) | Clean Hulls; Recreational Vessels | 6,323
42 U.S.C. 9609(a) | Hazardous Substances, Releases, Liability, Compensation (Class I) | 62,689
42 U.S.C. 9609(b) | Hazardous Substances, Releases, Liability, Compensation (Class II) | 62,689
42 U.S.C. 9609(b) | Hazardous Substances, Releases, Liability, Compensation (Class II subsequent offense) | 188,069
42 U.S.C. 9609(c) | Hazardous Substances, Releases, Liability, Compensation (Judicial Assessment) | 62,689
42 U.S.C. 9609(c) | Hazardous Substances, Releases, Liability, Compensation (Judicial Assessment subsequent offense) | 188,069
46 U.S.C. 80509(a) | Safe Containers for International Cargo | 6,852
46 U.S.C. 70305(c) | Suspension of Passenger Service | 68,529
46 U.S.C. 2110(e) | Vessel Inspection or Examination Fees | 10,360
46 U.S.C. 2115 | Alcohol and Dangerous Drug Testing | 8,433
46 U.S.C. 2302(a) | Negligent Operations: Recreational Vessels | 7,628
46 U.S.C. 2302(a) | Negligent Operations: Other Vessels | 38,139
46 U.S.C. 2302(c)(1) | Operating a Vessel While Under the Influence of Alcohol or a Dangerous Drug | 8,433
46 U.S.C. 2306(a)(4) | Vessel Reporting Requirements: Owner, Charterer, Managing Operator, or Agent | 13,132
46 U.S.C. 2306(b)(2) | Vessel Reporting Requirements: Master | 2,627
46 U.S.C. 3102(c)(1) | Immersion Suits | 13,132
46 U.S.C. 3302(i)(5) | Inspection Permit | 2,739
46 U.S.C. 3318(a) | Vessel Inspection; General | 13,132
46 U.S.C. 3318(g) | Vessel Inspection; Nautical School Vessel | 13,132
46 U.S.C. 3318(h) | Vessel Inspection; Failure to Give Notice in accordance with (IAW) 3304(b) | 2,627
46 U.S.C. 3318(i) | Vessel Inspection; Failure to Give Notice IAW 3309(c) | 2,627
46 U.S.C. 3318(j)(1) | Vessel Inspection; Vessel ≥1,600 Gross Tons | 26,269
46 U.S.C. 3318(j)(1) | Vessel Inspection; Vessel <1,600 Gross Tons (GT) | 5,254
46 U.S.C. 3318(k) | Vessel Inspection; Failure to Comply with 3311(b) | 26,269
46 U.S.C. 3318(l) | Vessel Inspection; Violation of 3318(b)-3318(f) | 13,132
46 U.S.C. 3502(e) | List/count of Passengers | 273
46 U.S.C. 3504(c) | Notification to Passengers | 27,384
46 U.S.C. 3504(c) | Notification to Passengers; Sale of Tickets | 1,368
46 U.S.C. 3506 | Copies of Laws on Passenger Vessels; Master | 548
46 U.S.C. 3718(a)(1) | Liquid Bulk/Dangerous Cargo | 68,462
46 U.S.C. 4106 | Uninspected Vessels | 11,506
46 U.S.C. 4311(b)(1) | Recreational Vessels (maximum for related series of violations) | 362,217
46 U.S.C. 4311(b)(1) | Recreational Vessels; Violation of 4307(a) | 7,244
46 U.S.C. 4311(c) | Recreational Vessels | 2,739
46 U.S.C. 4507 | Uninspected Commercial Fishing Industry Vessels | 11,506
46 U.S.C. 4703 | Abandonment of Barges | 1,949
46 U.S.C. 5116(a) | Load Lines | 12,537
46 U.S.C. 5116(b) | Load Lines; Violation of 5112(a) | 25,076
46 U.S.C. 5116(c) | Load Lines; Violation of 5112(b) | 12,537
46 U.S.C. 6103(a) | Reporting Marine Casualties | 43,678
46 U.S.C. 6103(b) | Reporting Marine Casualties; Violation of 6104 | 11,506
46 U.S.C. 8101(e) | Manning of Inspected Vessels; Failure to Report Deficiency in Vessel Complement | 2,072
46 U.S.C. 8101(f) | Manning of Inspected Vessels | 20,719
46 U.S.C. 8101(g) | Manning of Inspected Vessels; Employing or Serving in Capacity not Licensed by U.S. Coast Guard (USCG) | 20,719
46 U.S.C. 8101(h) | Manning of Inspected Vessels; Freight Vessel <100 GT, Small Passenger Vessel, or Sailing School Vessel | 2,739
46 U.S.C. 8102(a) | Watchmen on Passenger Vessels | 2,739
46 U.S.C. 8103(f) | Citizenship Requirements | 1,368
46 U.S.C. 8104(i) | Watches on Vessels; Violation of 8104(a) or (b) | 20,719
46 U.S.C. 8104(j) | Watches on Vessels; Violation of 8104(c), (d), (e), or (h) | 20,719
46 U.S.C. 8302(e) | Staff Department on Vessels | 273
46 U.S.C. 8304(d) | Officer's Competency Certificates | 273
46 U.S.C. 8502(e) | Coastwise Pilotage; Owner, Charterer, Managing Operator, Agent, Master or Individual in Charge | 20,719
46 U.S.C. 8502(f) | Coastwise Pilotage; Individual | 20,719
46 U.S.C. 8503 | Federal Pilots | 65,666
46 U.S.C. 8701(d) | Merchant Mariners Documents | 1,368
46 U.S.C. 8702(e) | Crew Requirements | 20,719
46 U.S.C. 8906 | Small Vessel Manning | 43,678
46 U.S.C. 9308(a) | Pilotage: Great Lakes; Owner, Charterer, Managing Operator, Agent, Master or Individual in Charge | 20,719
46 U.S.C. 9308(b) | Pilotage: Great Lakes; Individual | 20,719
46 U.S.C. 9308(c) | Pilotage: Great Lakes; Violation of 9303 | 20,719
46 U.S.C. 10104(b) | Failure to Report Sexual Offense | 11,011
46 U.S.C. 10314(a)(2) | Pay Advances to Seamen | 1,368
46 U.S.C. 10314(b) | Pay Advances to Seamen; Remuneration for Employment | 1,368
46 U.S.C. 10315(c) | Allotment to Seamen | 1,368
46 U.S.C. 10321 | Seamen Protection; General | 9,491
46 U.S.C. 10505(a)(2) | Coastwise Voyages: Advances | 9,491
46 U.S.C. 10505(b) | Coastwise Voyages: Advances; Remuneration for Employment | 9,491
46 U.S.C. 10508(b) | Coastwise Voyages: Seamen Protection; General | 9,491
46 U.S.C. 10711 | Effects of Deceased Seamen | 548
46 U.S.C. 10902(a)(2) | Complaints of Unfitness | 1,368
46 U.S.C. 10903(d) | Proceedings on Examination of Vessel | 273
46 U.S.C. 10907(b) | Permission to Make Complaint | 1,368
46 U.S.C. 11101(f) | Accommodations for Seamen | 1,368
46 U.S.C. 11102(b) | Medicine Chests on Vessels | 1,368
46 U.S.C. 11104(b) | Destitute Seamen | 273
46 U.S.C. 11105(c) | Wages on Discharge | 1,368
46 U.S.C. 11303(a) | Log Books; Master Failing to Maintain | 548
46 U.S.C. 11303(b) | Log Books; Master Failing to Make Entry | 548
46 U.S.C. 11303(c) | Log Books; Late Entry | 411
46 U.S.C. 11506 | Carrying of Sheath Knives | 137
46 U.S.C. 12151(a)(1) | Vessel Documentation | 17,935
46 U.S.C. 12151(a)(2) | Documentation of Vessels—Related to activities involving mobile offshore drilling units | 29,893
46 U.S.C. 12151(c) | Vessel Documentation; Fishery Endorsement | 137,060
46 U.S.C. 12309(a) | Numbering of Undocumented Vessels—Willful violation | 13,693
46 U.S.C. 12309(b) | Numbering of Undocumented Vessels | 2,739
46 U.S.C. 12507(b) | Vessel Identification System | 23,011
46 U.S.C. 14701 | Measurement of Vessels | 50,154
46 U.S.C. 14702 | Measurement; False Statements | 50,154
46 U.S.C. 31309 | Commercial Instruments and Maritime Liens | 23,011
46 U.S.C. 31330(a)(2) | Commercial Instruments and Maritime Liens; Mortgagor | 23,011
46 U.S.C. 31330(b)(2) | Commercial Instruments and Maritime Liens; Violation of 31329 | 57,527
46 U.S.C. 70036(a) | Ports and Waterways Safety Regulations | 103,050
46 U.S.C. 70041(d)(1)(B) | Vessel Navigation: Regattas or Marine Parades; Unlicensed Person in Charge | 10,360
46 U.S.C. 70041(d)(1)(C) | Vessel Navigation: Regattas or Marine Parades; Owner Onboard Vessel | 10,360
46 U.S.C. 70041(d)(1)(D) | Vessel Navigation: Regattas or Marine Parades; Other Persons | 5,179
46 U.S.C. 70119(a) | Port Security | 38,139
46 U.S.C. 70119(b) | Port Security—Continuing Violations | 68,529
46 U.S.C. 70506 | Maritime Drug Law Enforcement; Penalties | 6,323
49 U.S.C. 5123(a)(1) | Hazardous Materials: Related to Vessels—Maximum Penalty | 89,678
49 U.S.C. 5123(a)(2) | Hazardous Materials: Related to Vessels—Penalty from Fatalities, Serious Injuries/Illness or Substantial Damage to Property | 209,249
49 U.S.C. 5123(a)(3) | Hazardous Materials: Related to Vessels—Training | 540
¹ Enacted under the Tariff Act of 1930 exempt from inflation adjustments.

Title 49—Transportation

PART 1503—INVESTIGATIVE AND ENFORCEMENT PROCEDURES

15. The authority citation for part 1503 continues to read as follows:

Authority: 6 U.S.C. 1142; 18 U.S.C. 6002; 28 U.S.C. 2461 (note); 49 U.S.C. 114, 20109, 31105, 40113-40114, 40119, 44901-44907, 46101-46107, 46109-46110, 46301, 46305, 46311, 46313-46314; Pub. L. 104-134, as amended by Pub. L. 114-74.

16. In § 1503.401, revise paragraphs (b)(1) and (2) and (c)(1), (2), and (3) to read as follows:

§ 1503.401 Maximum penalty amounts.

* * * * *

(b) * * *

(1) For violations that occurred on or before November 2, 2015, $10,000 per violation, up to a total of $50,000 per civil penalty action, in the case of an individual or small business concern (“small business concern” as defined in section 3 of the Small Business Act (15 U.S.C. 632)). For violations that occurred after November 2, 2015, $12,794 per violation, up to a total of $63,973 per civil penalty action, in the case of an individual or small business concern; and

(2) For violations that occurred on or before November 2, 2015, $10,000 per violation, up to a total of $400,000 per civil penalty action, in the case of any other person. For violations that occurred after November 2, 2015, $12,794 per violation, up to a total of $511,780 per civil penalty action, in the case of any other person.

(c) * * *

(1) For violations that occurred on or before November 2, 2015, $10,000 per violation, up to a total of $50,000 per civil penalty action, in the case of an individual or small business concern (“small business concern” as defined in section 3 of the Small Business Act (15 U.S.C. 632)). For violations that occurred after November 2, 2015, $14,950 per violation, up to a total of $74,754 per civil penalty action, in the case of an individual (except an airman serving as an airman), or a small business concern.

(2) For violations that occurred on or before November 2, 2015, $10,000 per violation, up to a total of $400,000 per civil penalty action, in the case of any other person (except an airman serving as an airman) not operating an aircraft for the transportation of passengers or property for compensation. For violations that occurred after November 2, 2015, $14,950 per violation, up to a total of $598,026 per civil penalty action, in the case of any other person (except an airman serving as an airman) not operating an aircraft for the transportation of passengers or property for compensation.

(3) For violations that occurred on or before November 2, 2015, $25,000 per violation, up to a total of $400,000 per civil penalty action, in the case of a person operating an aircraft for the transportation of passengers or property for compensation (except an individual serving as an airman). For violations that occurred after November 2, 2015, $37,377 per violation, up to a total of $598,026 per civil penalty action, in the case of a person (except an individual serving as an airman) operating an aircraft for the transportation of passengers or property for compensation.

Jonathan E. Meyer,
General Counsel, U.S. Department of Homeland Security.

[FR Doc. 2022-00105 Filed 1-10-22; 8:45 am]

BILLING CODE 9110-9P-P, 9111-14-P, 9111-28-P, 9110-04-P, 9110-05-P